DEPARTMENT OF LABOR

Employment and Training Administration

[TA-W-81,791]

Fasco, A Division of Regal Beloit Corporation, Including On-Site Leased Workers From Penmac Personnel Services, Eldon, MO; Notice of Revised Determination on Reconsideration

On September 14, 2012, the Department of Labor issued a Notice of Affirmative Determination Regarding Application for Reconsideration applicable to workers and former workers of Fasco, a division of Regal Beloit Corporation, Eldon, Missouri (subject firm). The subject worker group includes workers engaged in activities related to warehousing and distribution of electric motors, as well as engineering, customer service and information technology (IT) services. Workers are not separately identifiable by service supplied. The worker group includes on-site leased workers from Penmac Personnel Services.

Section 222(a)(1) has been met because a significant number or proportion of the workers in the subject firm have become totally or partially separated, or are threatened with such separation.

Based on information provided during the reconsideration investigation, the Department determines that worker separations at the subject firm are related to a shift in a portion of the supply of engineering services (or like or directly competitive services) to a foreign country and that the shift in the supply of these services contributed importantly to worker separations at the subject firm.

Conclusion

After careful review of the additional facts obtained during the reconsideration investigation, I determine that workers of Fasco, a division of Regal Beloit Corporation, Eldon, Missouri, who were engaged in employment related to the supply of warehousing, distribution, engineering, customer service and information technology services, meet the worker group certification criteria under Section 222(a) of the Act, 19 U.S.C. 2272(a). In accordance with Section 223 of the Act, 19 U.S.C. 2273, I make the following certification:

All workers of Fasco, a division of Regal Beloit Corporation, including on-site leased workers from Penmac Personnel Services, Eldon, Missouri who became totally or partially separated from employment on or after July 9, 2011, through two years from the date of certification, and all workers in the group threatened with total or partial separation from employment on the date of certification through two years from the date of certification, are eligible to apply for adjustment assistance under Chapter 2 of Title II of the Trade Act of 1974, as amended.

Signed at Washington, DC, this 5th day of November, 2012.
Del Min Amy Chen,
Certifying Officer, Office of Trade Adjustment Assistance.

[FR Doc. 2012-28617 Filed 11-23-12; 8:45 am]

BILLING CODE 4510-FN-P